DEPARTMENT OF DEFENSE

Department of the Army

[Docket ID: USA-2008-0050]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on September 11, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: August 1, 2008.
Patricia L. Toppings,
OSD Federal Register Liaison Officer, Department of Defense.

A0381-100a DAMI

System name:

Intelligence/Counterintelligence Source Files (November 1, 1995, 60 FR 51996).

Changes:

* * * * *

Storage:

Delete entry and replace with “Paper records and electronic storage media.”

* * * * *

Safeguards:

Delete entry and replace with “Buildings employ alarms, security guards and/or rooms are security controlled accessible only to authorized persons. Paper records in the IRR are stored in security controlled areas accessible only to authorized persons. Electronically stored records are maintained in specialized software with password protected access and data backup measures. Records are accessible only to authorized persons with a need-to-know who are properly screened, cleared, and trained.”

Retention and disposal:

Delete entry and replace with “Records are retained in active file until no longer needed; then retired to the IRR where they are destroyed 75 years after date of last action. Destruction is by shredding, burning, or pulping for paper records and magnetic erasing for electronic records.”

* * * * *

Notification procedure:

Delete entry and replace with “Individuals seeking to determine whether information about themselves is contained in this system should address written inquiries to the U.S. Army Intelligence and Security Command, Freedom of Information/Privacy Office, 4552 Pike Road, Fort George G. Meade, MD 20755-5995.

Individual should provide their full name, any alias, Social Security Number (SSN), date and place of birth, current address, telephone number and notarized signature.”

Record access procedures:

Delete the first and second paragraphs and replace with “Individuals seeking to determine whether information about themselves is contained in this system should address written inquiries to the U.S. Army Intelligence and Security Command, Freedom of Information/Privacy Office, 4552 Pike Road, Fort George G. Meade, MD 20755-5995.

Individual should provide their full name, any alias, Social Security Number (SSN), date and place of birth, current address, telephone number and notarized signature.”

Delete the third paragraph.

* * * * *

A0381-100a DAMI

System name:

Intelligence/Counterintelligence Source Files.

System location:

U.S. Army Intelligence and Security Command, 8825 Beulah Street, Fort Belvoir, VA 22060-5246.

Decentralized segments are located at U.S. Army Intelligence brigades, groups, battalions, companies, detachments, and field offices and resident offices worldwide. Official mailing addresses are published as an appendix to the Army's compilation of systems of records notices.

Categories of individuals covered by the system:

Selected individuals who qualify and may be accepted as an intelligence or counterintelligence source for the U.S. Army.

Categories of records in the system:

Record consists of agreements; contracts; information reports; financial reports; operational correspondence; requests for, technical files, and results of polygraph examinations; audiovisual products and similar documents necessary to confirm operational use of source or future claims against the Army by source or heirs of the source. Administrative records required by the U.S. Army Investigative Records Repository (IRR) for records management purposes such as form transmitting operational material to the IRR and providing instructions for indexing the record in the Defense Central Index of Investigations [Defense Clearance and Investigations Index] (System Notice V5-02) and release of material contained therein, form indicating dossier has been reviewed and all material therein conforms to Department of Defense (DoD) policy regarding retention criteria, form pertaining to the release of information pertaining to controlled records, cross reference sheet to indicate the removal of investigative documents requiring limited access, form identifying material that has been segregated and or is exempt from release, and records accounting for the disclosure of operational information made outside of the DoD.

Authority for maintenance of the system:

10 U.S.C. 3013, Secretary of the Army; National Security Act of 1947, as amended; E.O. 10450, Security Requirements for Government Employment, paragraphs 2, 3, 4, 5, 6, 7, 8, 9, and 14; E.O. 12333, United States Intelligence Activities, paragraphs 1.1(c), 1.1(d), 1.12(d), 2.3, 2.4, and 2.6; the National Security Act of 1947, as amended; the Intelligence Authorization Act of 1995, title V, section 503 and title VIII, sections 801-811 and E.O. 9397 (SSN).

Purpose(s):

To support contingency planning and military operations, to conduct counterintelligence and intelligence operations, to confirm claims against the Army by source or heirs of source, and to document source operations pertaining to the U.S. Army's responsibilities for intelligence and counterintelligence.

Routine uses of records maintained in the system, including categories of users and the purposes of such uses:

In addition to those disclosures generally permitted under 5 U.S.C. 552a(b) of the Privacy Act, these records or information contained therein may specifically be disclosed outside the DoD as routine uses pursuant to 5 U.S.C. 552a(b)(3) as follows:

The ‘Blanket Routine Uses’ published at the beginning of the Army's compilation of systems of records notices also apply to this system.

Policies and practices for storing, retrieving, accessing, retaining, and disposing of records in the system:

Storage:

Paper records and electronic storage media.

Retrievability:

By individual name or source/project name, date and place of birth, Social Security Number, and numerically by source or project number.

Safeguards:

Buildings employ alarms, security guards and/or rooms are security controlled accessible only to authorized persons. Paper records in the IRR are stored in security controlled areas accessible only to authorized persons. Electronically stored records are maintained in specialized software with password protected access and data backup measures. Records are accessible only to authorized persons with a need-to-know who are properly screened, cleared, and trained.

Retention and disposal:

Records are retained in active file until no longer needed; then retired to the IRR where they are destroyed 75 years after date of last action. Destruction is by shredding, burning, or pulping for paper records and magnetic erasing for electronic records.

System manager(s) and address:

Deputy Chief of Staff for Intelligence, Headquarters, Department of the Army, 1001 Army Pentagon, Washington, DC 20310-1001.

Notification procedure:

Individuals seeking to determine whether information about themselves is contained in this system should address written inquiries to the U.S. Army Intelligence and Security Command, Freedom of Information/Privacy Office, 4552 Pike Road, Fort George G. Meade, MD 20755-5995.

Individual should provide their full name, any alias, Social Security Number (SSN), date and place of birth, current address, telephone number and notarized signature.

Record access procedures:

Individuals seeking to determine whether information about themselves is contained in this system should address written inquiries to the U.S. Army Intelligence and Security Command, Freedom of Information/Privacy Office, 4552 Pike Road, Fort George G. Meade, MD 20755-5995.

Individual should provide their full name, any alias, Social Security Number (SSN), date and place of birth, current address, telephone number and notarized signature.

Contesting record procedures:

The Army's rules for accessing records, and for contesting contents and appealing initial agency determinations are contained in Army Regulation 340-21; 32 CFR part 505; or may be obtained from the system manager.

Record source categories:

From individual; Federal and Department of Defense investigative, intelligence and law enforcement agencies; and foreign investigative, intelligence, and law enforcement agencies.

Exemptions claimed for the system:

Parts of this system may be exempt under 5 U.S.C. 552a(k)(1), (k)(2), or (k)(5), as applicable.

An exemption rule for this system has been promulgated in accordance with requirements of 5 U.S.C. 553(b)(1), (2), and (3), (c), and (e) and published in 32 CFR part 505. For additional information contact the system manager.

[FR Doc. E8-18594 Filed 8-11-08; 8:45 am]

BILLING CODE 5001-06-P